GENERAL SERVICES ADMINISTRATION

Privacy Act of 1974; Proposed Privacy Act System of Records

AGENCY: General Services Administration.

ACTION: Notice of a system of records subject to the Privacy Act of 1974.

SUMMARY: The General Services Administration (GSA) is providing notice of the establishment of the record system, System for Tracking and Administering Real-property (STAR) (GSA/PBS-4). The system collects and maintains information on individuals who lease or receive lease payments for buildings leased to the U.S. government. System information is used to provide contact information and payment information for leased buildings.

DATES: This privacy notification for the System for Tracking and Administering Real-property (STAR) will become effective 30 days after December 12, 2005 unless comments received on or before that date result in a contrary determination.

ADDRESSES: Comments should be directed to the STAR Program Manager, Systems Development Division (PGAB), Office of Technology Capital Asset Management, Room 5217, General Services Administration, 1800 F Street NW, Washington DC, 20405-0001.

FOR FURTHER INFORMATION CONTACT: GSA Privacy Act Officer (CIB), General Services Administration, 1800 F Street NW, Washington DC 20405; telephone (202) 501-1452.

Dated: November 4, 2005.
JUNE V. HUBER,
Director, Office ofInformation Management.

GSA/PBS-4

System name: System for Tracking and Administering Real-property (STAR).

System location: Electronic records are maintained at the GSA Public Buildings Service (PBS) Enterprise Service Center site. Paper records are located in PBS regional and field offices. Contact the system manager for additional information.

Categories of individuals covered by the system: STAR includes information on individuals who are sole proprietors who lease property to the Federal Government. In addition to sole proprietors, individuals who might be designated to receive lease payments are included. Information on these individuals includes their name, contact information, and their Taxpayer Identification Number (TIN).

Categories of Records in the System: The system maintains an inventory of government owned and leased property and includes:

a. Personal information of property owners, including sole proprietors who are designated as Lessors, or the sole proprietor's designee who is authorized to receive payments for the lease, designated as Lease Payee.

b. Internal communications that reference the Lessors and Lease Payees.

Authorities for maintenance of the system: 40 U.S.C. Chapters 5, 31, and 33.

Purpose: To establish and maintain a system for tracking and administering leased property.

Routine uses of the system records, including categories of users and their purpose for using the system:

System information may be accessed and used by authorized GSA employees or contractors in the conduct of official duties associated with the tracking and administration of leased property. The information may be shared with the GSA real property management systems Rent Estimate, Business Information Solution, Occupancy Agreement Tool, and Data Gateway.

Information from this system also may be disclosed as a routine use:

a. In any legal proceeding, where pertinent, to which GSA is a party before a court or administrative body.

b. To a Federal, State, local, or foreign agency responsible for investigating, prosecuting, enforcing, or carrying out a statute, rule, regulation, or order when GSA becomes aware of a violation or potential violation of civil or criminal law or regulation.

c. To duly authorized officials engaged in investigating or settling a grievance, complaint, or appeal filed by an individual who is the subject of the record.

d. To the Office of Personnel Management (OPM) and the Government Accountability Office (GAO) when the information is required for evaluation of the program.

e. To a Member of Congress or his or her staff on behalf of and at the request of the individual who is the subject of the record.

f. To an expert, consultant, or contractor of GSA in the performance of a Federal duty to which the information is relevant.

g. To the National Archives and Records Administration (NARA) for records management purposes.

Policies and practices for storing, retrieving, accessing, retaining, and disposing of system records:

Storage: Information may be collected on paper or electronically and may be stored on paper or on electronic media, as appropriate. Electronic records are kept on server hard drives and/or CD ROM.

Retrievability: Records are retrievable by a lessor's or designee's name and/or TIN.

Safeguards: System records are safeguarded in accordance with the requirements of the Privacy Act, the Computer Security Act, and the STAR System Security Plan. Technical, administrative, and personnel security measures are implemented to ensure confidentiality and integrity of the system data that is stored, processed, and transmitted. Paper records are stored in secure cabinets or rooms. Electronic records are protected by passwords and other appropriate security measures.

Retention and disposal: Disposition of records is according to the National Archives and Records Administration (NARA) guidelines, as set forth in the GSA Records Maintenance and Disposition System handbooks OAD P 1820.2A and CIO P 1820.1, and authorized GSA records schedules.

System manager and address: STAR Program Manager, Systems Development Division (PGAB), Office of Technology Capital Asset Management, Room 5217, General Services Administration, 1800 F Street NW, Washington DC 20405-0001.

Notification procedure: An individual may obtain information on whether the system contains his or her record by addressing a request to the STAR Program Manager at the above address.

Record access procedure: Requests from individuals for access to their records should be addressed to the STAR Program Manager at the above address.

Contesting record procedures: GSA rules for access to systems of records, for contesting the contents of systems of records, and for appealing initial determinations are published in the Federal Register, 41 CFR part 105-64.

Record source categories: Information is obtained from individuals who are sole proprietor property owners or individuals who are designated to receive lease payments.

[FR Doc. 05-22460 Filed 11-9-05; 8:45 am]

BILLING CODE 6820-34-S